DEPARTMENT OF TRANSPORTATION

Coast Guard

33 CFR Part 117

[CGD 08-02-044]

RIN 2115-AE47

Drawbridge Operating Regulation; Mississippi River, Iowa and Illinois

AGENCY: Coast Guard, DOT.

ACTION: Notice of temporary deviation from regulations.

SUMMARY: The Commander, Eighth Coast Guard District has issued a temporary deviation from the regulation governing the Crescent Railroad Drawbridge, Mile 481.4, Upper Mississippi River near Rock Island, Illinois. This deviation allows the drawbridge to open on signal if at least 6 hours advance notice is given during the 53 day period starting at 12:01 a.m., January 7, 2003 and ending at 12:01 a.m., March 1, 2003, Central Standard Time. This deviation is necessary to allow the bridge owner time for preventive maintenance that is essential to the continued safe operation of the drawbridge.

DATES: This temporary deviation is effective from 12:01 a.m., January 7, 2003 until 12:01 a.m., March 1, 2003.

ADDRESSES: Materials referred to in this notice are available for inspection or copying at the office of the Eighth Coast Guard District, Bridge Administration Branch, Commander (obr), Eighth Coast Guard District, 1222 Spruce Street, St. Louis, MO 63103-2832, between 8 a.m. and 4 p.m., Monday through Friday, except on Federal holidays. The Bridge Administration Branch maintains the public docket for this temporary deviation.

FOR FURTHER INFORMATION CONTACT: Roger K. Wiebusch, Bridge Administrator, Commander (obr), Eighth Coast Guard District, 1222 Spruce Street, St. Louis, MO 63103-2832, (314) 539-3900, extension 2378.

SUPPLEMENTARY INFORMATION: The Burlington Northern Santa Fe (BNSF) Railroad requested a temporary deviation on December 2, 2002 for the operation of the Crescent Railroad Drawbridge, Mile 481.4, Upper Mississippi River near Rock Island, Illinois to allow the bridge owner time for preventive maintenance. The drawbridge operation regulations found at 33 CFR 117.5, require the drawbridge to open on signal. In order to perform required annual maintenance, the bridge will open on signal if at least 6 hours advance notice is given. This deviation allows the bridge to operate on a 6-hour advance notice to open for navigation for 53 days starting at 12:01 a.m., January 7, 2003 and ending at 12:01 a.m., March 1, 2003. This maintenance period was scheduled during the winter months to lessen the impact on vessel traffic which will increase when Lock Nos. 17 and 19 reopen on March 1, 2003.

The Crescent Railroad Drawbridge provides a vertical clearance of 25.7 feet above normal pool in the closed to navigation position. Navigation on the waterway consists primarily of commercial tows and recreational watercraft. The drawbridge will be able to open for emergencies during this period. There are no alternate routes for waterway traffic to bypass the Crescent Railroad Drawbridge. This deviation has been coordinated with waterway users. No objections were received.

In accordance with 33 CFR 117.35(c), this work will be performed with all due speed in order to return the bridge to normal operation as soon as possible. This deviation from the operating regulations is authorized under 33 CFR 117.35.

Dated: December 23, 2002.
Roger K. Wiebusch,
Bridge Administrator.

[FR Doc. 02-33019 Filed 12-30-02; 8:45 am]

BILLING CODE 4910-15-U